DEPARTMENT OF TRANSPORTATION

Federal Aviation Administration

14 CFR Part 71

[Airspace Docket No. 00-ACE-38]

Amendment to Class E Airspace; Ogallala, NE; Correction

AGENCY: Federal Aviation Administration, DOT.

ACTION: Direct final rule; confirmation of effective date and correction.

SUMMARY: This document confirms the effective date of a direct final rule which revises Class E airspace at Ogallala, NE, and corrects an error in the airport designation as published in the Federal Register on January 31, 2001 (66 FR 8357)

EFFECTIVE DATE: 0901 UTC, May 17, 2001.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION: The FAA published this direct final final rule with a request for comments in the Federal Register on January 31, 2001 (66 FR 8357, Airspace Docket No. 00-ACE-38). An error was subsequently discovered that the airport designation of Searle Field, NE should be Ogallala, Searle Field, NE. This action corrects that error. The FAA uses the direct final rulemaking procedure for a non-controversial rule where the FAA believes that there will be no adverse public comment. This direct final rule advised the public that no adverse comments were anticipated, and that unless a written adverse comment, or a written notice of intent to submit such an adverse comment, were received within the comment period, the regulation would become effective on May 17, 2001. No adverse comments were received, and thus this notice confirms that this direct final rule will become effective on that date.

Correction to the Direct Final Rule

Accordingly, pursuant to the authority delegated to me, the Class E airspace designation as published in the Federal Register on January 31, 2001 (66 FR 8358), (Federal Register Document 01-1280; page 8358, column 1, is corrected as follows:

§ 71.1 [Corrected]

* * * * *

ACE NE E5 Ogallala, NE [Corrected]

On page 8358, in the first column, line sixty one, correct the airport designation by removing “Searle Field, NE” and adding “Ogallala, Searle Field, NE.”

* * * * *

Issued in Kansas City, MO on March 27, 2001.
Richard L. Day,
Acting Manager, Air Traffic Division, Central Region.

[FR Doc. 01-8712 Filed 4-9-01; 8:45 am]

BILLING CODE 4910-13-M